DEPARTMENT OF ENERGY

Federal Energy Regulatory Commission

[Docket No. EL05-50-000]

Jersey Central Power & Light Company v. Atlantic City Electric Company, Delmarva Power & Light Company, PECO Energy Company and Public Service Electric and Gas Company; Notice of Complaint

January 5, 2005.

Take notice that on December 30, 2004, pursuant to section 206 of the Federal Power Act, Jersey Central Power & Light Company, (Jersey Central) a subsidiary of FirstEnergy Corp., filed a complaint against Atlantic City Electric Company, Delmarva Power & Light Company, PECO Energy Company and Public Service Electric and Gas Company. Jersey Central requests that the Commission terminate the Smithburg and East Windsor Agreements, and eliminate Jersey Central's requirement to construct the Seashore Loop under the Lower Delaware Valley Transmission System Agreement.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on January 31, 2005.

Linda Mitry,
Deputy Secretary.

[FR Doc. E5-365 Filed 1-31-05; 8:45 am]

BILLING CODE 6717-01-P